FEDERAL COMMUNICATIONS COMMISSION

47 CFR Part 53

[WC Docket No. 03-228; FCC 04-54]

Section 272(b)(1)'s “Operate Independently” Requirement for Section 272 Affiliates; Corrections

AGENCY: Federal Communications Commission.

ACTION: Final rule; Correcting amendments.

SUMMARY: The Federal Communications Commission published a document in the Federal Register on March 30, 2004 (69 FR 16494), revising Commission rules. That document inadvertently failed to remove paragraphs (a)(2) and (a)(3), and redesignate paragraph (a)(1) as paragraph (a). This document corrects the final regulations by revising these sections.

DATES: Effective on September 21, 2005.

FOR FURTHER INFORMATION CONTACT: Christi Shewman, Acting Assistant Chief, Competition Policy Division, Wireline Competition Bureau, at (202) 418-1686.

SUPPLEMENTARY INFORMATION: This is a correction of a final rule published in the Federal Register on March 30, 2004, 69 FR 16494.

List of Subjects in 47 CFR Part 53

Communications common carriers, Special provisions concerning bell operating companies, Telecommunications.

Federal Communications Commission.
Marlene H. Dortch,
Secretary.

Rule Change

For the reasons set forth in the preamble, the Federal Communications Commission amends 47 CFR part 53 as follows:

PART 53—SPECIAL PROVISIONS CONCERNING BELL OPERATING COMPANIES

1. The authority citation for part 53 continues to read as follows:

Authority: Sections 1-5, 7, 201-05, 218, 251, 253, 271-75, 48 Stat. 1070, as amended, 1077; 47 U.S.C. 151-55, 157, 201-05, 218, 251, 253, 271-75, unless otherwise noted.

2. Section 53.203(a) is revised to read as follows:

§ 53.203 Structural and transactional requirements.

(a) Operational independence. A section 272 affiliate and the BOC of which it is an affiliate shall not jointly own transmission and switching facilities or the land and buildings where those facilities are located.

* * * * *

[FR Doc. 05-18590 Filed 9-20-05; 8:45 am]

BILLING CODE 6712-01-P